DEPARTMENT OF ENERGY

Federal Energy Regulatory Commission

[Docket No. ER17-1821-002]

Panda Stonewall LLC; Notice Establishing Answer Period

On July 10, 2019, Panda Stonewall LLC (Panda) filed a Motion for Extension of Time (Motion), from July 18, 2019 to October 8, 2019, to file briefs opposing exceptions to the Initial Decision, in the above referenced proceedings. Included in the Motion was a request that the Commission shorten to two days the period for answers to the Motion. Joint Customers ¹ and Commission Trial Staff filed answers opposing Panda's request for a shortened answer period.

¹ The Joint Customers are Old Dominion Electric Cooperative, North Carolina Electric Membership Corporation, Northern Virginia Electric Cooperative, Inc., and Dominion Energy Services, Inc., on behalf of Virginia Electric and Power Company d/b/a Dominion Energy Virginia/North Carolina.

Upon consideration, notice is hereby given that answers to Panda's Motion are due by 5 p.m. Eastern Time on July 17, 2019.

Dated: July 16, 2019.
Kimberly D. Bose,
Secretary.

[FR Doc. 2019-15482 Filed 7-19-19; 8:45 am]

BILLING CODE 6717-01-P